DEPARTMENT OF LABOR

Employment and Training Administration

[TA-W-73,458]

Chrysler Financial Services Americas, LLC, a Subsidiary of FinCo Intermediate Holding Co., LLC, Troy Customer Contact Center; Troy, MI; Notice of Negative Determination on Reconsideration

On September 21, 2010, the Department of Labor issued an Affirmative Determination Regarding Application for Reconsideration for the workers and former workers of Chrysler Financial Services Americas, LLC, a subsidiary of FinCo Intermediate Holding Co., LLC, Troy Customer Contact Center, Troy, Michigan (subject firm). The Department's Notice was published in the Federal Register on September 29, 2010 (75 FR 60138).

The subject worker group is engaged in employment related to the supply of automotive-related financial services to dealers and consumers, including retail and wholesale financing, remarketing, and customer service and collections.

Pursuant to 29 CFR 90.18(c), reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The initial investigation resulted in a negative determination based on the findings that there have not been increased imports of services like or directly competitive with the financial services supplied by the subject firm, and there has not been a shift in the supply of services by the firm to a foreign country. In addition, the subject firm is not a supplier or downstream producer to a firm that employed a worker group eligible to apply for Trade Adjustment Assistance (TAA). For worker groups that supply a service instead of producing a component part, the term “supplier” means a firm that supplies directly to another firm services used in the production of articles or in the supply of services, as the case may be, that were the basis for the certification of eligibility.

The request for reconsideration states that “the workers at Chrysler Financial Services, Troy, Michigan were engaged in activities that initiated the need to produce automotive vehicles and automotive vehicle parts * * * multiple production facilities within the Chrysler Group has lost production due to imports which resulted in the decrease in sales.”

Information collected during the initial investigation confirmed that another domestic entity would be the new financial arm for Chrysler, LLC, and that, as a result, certain functions performed by the subject workers have been realigned domestically.

During the reconsideration investigation, the Department received information that confirmed that the subject firm did not shift to nor acquire from a foreign country the supply of services like or directly competitive with the services supplied by the subject workers.

Further, the Department determined that the services supplied by the subject workers were not used in the production of an article. Rather, the financial services supplied by the subject worker group are post-production.

Conclusion

After reconsideration, I affirm the original notice of negative determination of eligibility to apply for worker adjustment assistance for workers and former workers of Chrysler Financial Services Americas, LLC, a subsidiary of FinCo Intermediate Holding Co., LLC, Troy Customer Contact Center, Troy, Michigan.

Signed in Washington, DC, on this 29th day of March, 2011.
Del Min Amy Chen,
Certifying Officer, Office of Trade Adjustment Assistance.

[FR Doc. 2011-8308 Filed 4-6-11; 8:45 am]

BILLING CODE 4510-FN-P